FEDERAL COMMUNICATIONS COMMISSION

47 CFR Parts 1 and 90

[WP Docket Nos. 15-32 and 16-261, RM-11572, RM-11719 and RM-11722; Report No. 3115]

Petition for Reconsideration of Action in Rulemaking Proceeding

AGENCY: Federal Communications Commission.

ACTION: Petition for reconsideration.

SUMMARY: Petitions for Reconsideration (Petitions) have been filed in the Commission's rulemaking proceeding by John A. Prendergast, on behalf of The Monitoring Associations and David Smith on behalf of Land Mobile Communications Council.

DATES: Oppositions to the Petitions must be filed on or before April 4, 2019. Replies to an opposition must be filed on or before April 15, 2019.

ADDRESSES: Federal Communications Commission, 445 12th Street SW, Washington, DC 20554.

FOR FURTHER INFORMATION CONTACT: Michael Wilhelm, email: Michael.wilhelm@fcc.gov; and Scot Stone, email: Scot.stone@fcc.gov.

SUPPLEMENTARY INFORMATION: This is a summary of the Commission's document, Report No. 3115, released March 6, 2019. The full text of the Petitions is available for viewing and copying at the FCC Reference Information Center, 445 12th Street SW, Room CY-A257, Washington, DC 20554. They also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Creation of Interstitial 12.5 Kilohertz Channels in the 800 MHz Band Between 809-817/854-862 MHz); Amendment of Part 90 of the Commission's Rules to Improve Access to Private Land Mobile Radio Spectrum; Land Mobile Communications Council, FCC 18-143, in WP Docket Nos. 15-32 and 16-261; RM-11572, RM-11719, and RM-11722; published at 83 FR 61072, November 27, 2018. This document is being published pursuant to 47 CFR 1.429(e). See also 47 CFR 1.4(b)(1) and 1.429(f), (g).

Number of Petitions Filed: 2.

Federal Communications Commission.
Marlene Dortch,
Secretary, Office of the Secretary.

[FR Doc. 2019-05234 Filed 3-19-19; 8:45 am]

BILLING CODE 6712-01-P